DEPARTMENT OF TRANSPORTATION

Federal Aviation Administration

Type Certificate (TC)/Technical Standard Order (TSO) Seat Issues and Their Resolution

AGENCY: Federal Aviation Administration (FAA), DOT.

ACTION: Notice of availability and request for comments.

SUMMARY: The FAA invites public comments on its proposed policy memorandum to improve the reporting processes of discrepancies discovered in the data used among persons directly involved in the certification of aircraft seats. This Notice also invites the public to comment on the proposed policy to standardize the resolution of discrepancies discovered on aircraft seats in relation to the minimum performance standard of the specific TSO.

DATES: Comments must be received by May 20, 2003.

FOR FURTHER INFORMATION CONTACT: Hal Jensen, FAA, Aircraft Certification Services, Aircraft Engineering Division, Technical Programs Branch, AIR-120, Room 835, 800 Independence Avenue, SW., Washington DC 20591; Telephone: (202) 267-8807; Fax; (202) 267-5340; E-mail: hal.jensen@faa.gov.

SUPPLEMENTARY INFORMATION:

Comments Invited

Interested persons are invited to comment on the proposed policy memorandum by submitting such written data, views, or arguments, as they desire, to the aforementioned specified address. Comments received on the proposed policy memorandum may be examined, before and after the closing date, in Room 815, FAA Headquarters Building, 800 Independence Avenue, SW., Washington, DC 20591, weekdays expect Federal holidays, between 8:30 a.m. and 4:30 p.m. The Director of the Aircraft Certification Service will consider all communications received on or before the closing date, before issuing the final policy memorandum.

Background

In 2000, the FAA and industry formed a team to investigate and implement procedures to streamline the certification of aircraft seats. One area identified for improvement is the means of communicating discrepancies found on seats after the issuance of the TSO approval by the person or organization performing the seat certification/installation process. Currently, seat discrepancies were resolved in the most expeditious manner possible, but this process does not allow for the resolution of systemic problems. However, the proposed policy for reporting discrepancies discovered on aircraft seats will help to ensure that all stakeholders in the seat certification program are made aware of the problem so that root causes are readily identified and resolved in a standardized manner. Note that the development of the proposed process recognized that the discrepancies are discovered after the TSO approval, and that the type design status of the aircraft in which the seats are installed in taken into consideration. Ultimately, the proposed process clarifies steps that must be achieved before an aircraft is eligible for type design approval and identifies who is responsible for resolving the discrepancy.

How To Obtain Copies

A copy of the proposed memorandum may be obtained via the Internet at, http://av-info.faa.gov/tso/Tsopro/Proposed.htm or obtained or request fro the office listed under for Further Information Contact.

Dated: Issued in Washington, DC on April 18, 2003.
Susan J.M. Cabler,
Deputy Manager, Aircraft Engineering Division, Aircraft Engineering Service.

[FR Doc. 03-10453 Filed 4-28-03; 8:45 am]

BILLING CODE 4910-13-M